DEPARTMENT OF THE TREASURY

Submission for OMB Review; Comment Request

September 23, 2014.

The Department of the Treasury will submit the following information collection requests to the Office of Management and Budget (OMB) for review and clearance in accordance with the Paperwork Reduction Act of 1995, Public Law 104-13, on or after the date of publication of this notice.

DATES: Comments should be received on or before October 29, 2014 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8140, Washington, DC 20220, or email at PRA@treasury.gov.

FOR FURTHER INFORMATION CONTACT: Copies of the submission(s) may be obtained by emailing PRA@treasury.gov, calling (202) 927-5331, or viewing the entire information collection request at www.reginfo.gov.

Bureau of the Fiscal Service

OMB Number: 1535-0059.

Type of Review: Revision of a currently approved collection.

Title: Special Form of Assignment for U.S. Registered Definitive Securities and U.S. Bearer Securities for Conversion to BECCS or CUBES.

Form: PD F 1832.

Abstract: PD F 1832 is completed by the owner (or authorized representative) of registered securities to convert the definitive (paper) registered securities to an account in TreasuryDirect®; convert the definitive (paper) registered securities to a book-entry account with a commercial financial institution, or allow matured or called definitive (paper) registered securities to be paid to another party.

Affected Public: Individuals or households.

Estimated Annual Burden Hours: 400.

OMB Number: 1535-0113.

Type of Review: Revision of a currently approved collection.

Title: Disclaimer and Consent with Respect to United States Savings Bond/Notes.

Form: PD F 1849.

Abstract: Used to obtain a disclaimer and consent as the result of an error in registration or otherwise the payment, refund of the purchase price, or reissue as requested by one person would appear to affect the right, title or interest of some other person.

Affected Public: Individuals or households.

Estimated Annual Burden Hours: 300.

Dawn D. Wolfgang,
Treasury PRA Clearance Officer.

[FR Doc. 2014-23053 Filed 9-26-14; 8:45 am]

BILLING CODE 4810-39-P